COMMISSION ON CIVIL RIGHTS

Agenda and Notice of Public Meeting of the Utah Advisory Committee

Notice is hereby given, pursuant to the provisions of the rules and regulations of the U.S. Commission on Civil Rights and the regulations of the Federal Advisory Committee Act (FACA), that a meeting of the Utah Advisory Committee will convene at 6 p.m. and adjourn at 8 p.m. (MST) on Thursday, December 6, 2007 at Horizonte Instruction and Training Center, 1234 S. Main Street, Salt Lake City, UT 84101.

The purpose of the meeting is for the committee to discuss recent Commission and regional activities, review a draft of summary report on civil rights issues affecting American Indians in Utah and plan future activities.

Members of the public are entitled to submit written comments; the comments must be received in the Rocky Mountain Regional Office by January 31, 2007. The address is: U.S. Commission on Civil Rights, Rocky Mountain Regional Office, 1961 Stout Street, Suite 240, Denver, Colorado 80294. Persons wishing to e-mail their comments or who desire additional information should contact Malee V. Craft, Director of the Rocky Mountain Regional Office, (303) 866-1040 (TDD 303-866-1049) or by e-mail at mcraft@uscccr.gov.

Hearing-impaired persons who will attend the meeting and require the services of a sign language interpreter should contact the Regional Office at least ten (10) working days before the scheduled date of the meeting.

Records generated from this meeting may be inspected and reproduced at the Rocky Mountain Regional Office, as they become available, both before and after the meeting. Persons interested in the work of this advisory committee are advised to go to the Commission's Web site, www.usccr.gov, or contact the Rocky Mountain Regional Office at the above e-mail or street address.

The meeting will be conducted pursuant to the provisions of the rules and regulations of the Commission and FACA.

Dated at Washington, DC, November 13, 2007.
Ivy L. Davis,
Acting Chief, Regional Programs Coordination Unit.

[FR Doc. E7-22609 Filed 11-19-07; 8:45 am]

BILLING CODE 6335-02-P